DEPARTMENT OF STATE

[Public Notice: 7639]

Department of State Performance Review Board Members

In accordance with section 4314(c)(4) of 5 United States Code, the Department of State has appointed the following individuals to the Department of State Performance Review Board for Senior Executive Service members:

James L. Millette, Chairperson, Deputy Assistant Secretary, Bureau of Resource Management, Department of State;

Kelly Clements, Deputy Assistant Secretary, Bureau of Population, Refugees and Migration, Department of State;

Richard C. Visek, Deputy Legal Adviser, Office of the Legal Adviser, Department of State;

Marcia S. Bernicat, Ambassador, Department of State.

Dated: September 27, 2011.
Nancy J. Powell,
Director General of the Foreign Service and Director of Human Resources, Department of State.

[FR Doc. 2011-26231 Filed 10-7-11; 8:45 am]

BILLING CODE 4710-15-P